OFFICE OF PERSONNEL MANAGEMENT

Submission for Review: 3206-0226, It's Time To Sign Up for Direct Deposit or Direct Express, RI 38-128

AGENCY: Office of Personnel Management.

ACTION: 30-Day notice and request for comments.

SUMMARY: The Office of Personnel Management (OPM), Retirement Services, offers the general public and other Federal agencies the opportunity to comment on an expiring information collection request (ICR), RI 38-128—It's Time to Sign Up for Direct Deposit or Direct Express, without change.

DATES: Comments are encouraged and will be accepted until September 6, 2023.

ADDRESSES: Written comments and recommendations for the proposed information collection should be sent within 30 days of publication of this notice to http://www.reginfo.gov/public/do/PRAMain. Find this particular information collection by selecting “Currently under Review—Open for Public Comments” or by using the search function or fax to (202) 395-6974.

FOR FURTHER INFORMATION CONTACT: A copy of this ICR with applicable supporting documentation, may be obtained by contacting the Retirement Services Publications Team, Office of Personnel Management, 1900 E Street NW, Room 3316-L, Washington, DC 20415, Attention: Cyrus S. Benson, or sent via electronic mail to Cyrus.Benson@opm.gov or faxed to (202) 606-0910 or via telephone at (202) 936-0401.

SUPPLEMENTARY INFORMATION: As required by the Paperwork Reduction Act of 1995 OPM is soliciting comments for this collection. The information collection (OMB No. 3206-0226) was previously published in the Federal Register on May 3, 2023, at 88 FR 27927, allowing for a 60-day public comment period. No comments were received for this collection. The purpose of this notice is to allow an additional 30 days for public comments. The Office of Management and Budget is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

RI 38-128, It's Time to Sign Up for Direct Deposit or Direct Express, provides the opportunity for the annuitant to elect Direct Deposit or Direct Express. This election is required only once: when a person is first put on our annuity roll. If there is no evidence that the separating agency gave the person this election, OPM must provide RI 38-128.

Analysis

Agency: Retirement Operations, Retirement Services, Office of Personnel Management.

Title: It's Time to Sign Up for Direct Deposit or Direct Express.

OMB Number: 3206-0226.

Frequency: On occasion.

Affected Public: Individuals or Households.

Number of Respondents: 20,000.

Estimated Time per Respondent: 30 minutes.

Total Burden Hours: 10,000.

Office of Personnel Management.
Kayyonne Marston,
Federal Register Liaison.

[FR Doc. 2023-16801 Filed 8-4-23; 8:45 am]

BILLING CODE 6325-38-P